DEPARTMENT OF HOMELAND SECURITY

Coast Guard

33 CFR Part 117

[Docket No. USCG-2009-0686]

RIN 1625-AA09

Drawbridge Operation Regulation; Lower Grand River, Iberville Parish, LA

AGENCY: Coast Guard, DHS.

ACTION: Final rule.

SUMMARY: The Coast Guard is changing the regulation governing the operation of the LA 75 pontoon bridge, mile 38.4, in Iberville Parish, Louisiana. The Iberville Parish School Board requested that the operating regulation of the LA 75 pontoon bridge be changed to add an additional 30 minutes to the end of the morning scheduled closure period to provide more time for school buses to transit across the bridge. The additional time is needed as a result of school redistricting.

DATES: This rule is effective April 30, 2010.

ADDRESSES: Comments and related materials received from the public, as well as documents mentioned in this preamble as being available in the docket, are part of docket USCG-2009-0686 and are available online by going to http://www.regulations.gov, inserting USCG-2009-0686 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

SUPPLEMENTARY INFORMATION:

Regulatory Information

On November 10, 2009, we published a notice of proposed rulemaking (NPRM) entitled Drawbridge Operation Regulations; Lower Grand River, Iberville Parish, LA in the Federal Register (74 FR 57884). We received one comment on the proposed rule. No public meeting was requested, and none was held.

Background and Purpose

The Iberville Parish School Board requested a change in the operation regulation for the LA 75 pontoon and the LA 77 swing bridge across the Lower Grand River, mile 38.4 and 47.0, respectively, in Iberville Parish, Louisiana. The change would add an additional 30 minutes to the end of each scheduled closure period to provide more time for school buses to transit across the bridge. Extra time is now needed because one of Iberville Parish's high schools has been closed. School bus lines have been rerouted, creating the need to have more time to transit the students over the bridges.

Presently, 33 CFR 117.478(a) and (b) states: The draw of the LA 75 bridge, mile 38.4 (Alternate Route) at Bayou Sorrel and the draw of the LA 77 bridge, mile 47.0 (Alternate Route) at Grosse Tete, shall open on signal; except that, from about August 15 to about June 5 (the school year), the draw of the LA 75 bridge need not be opened from 6 a.m. to 7:30 a.m. and from 3 p.m. to 4:30 p.m. and the draw of the LA 77 bridge need not be opened from 6 a.m. to 8 a.m. and from 2:30 p.m. to 4:30 p.m., Monday through Friday except Federal holidays. The draws shall open on signal at any time for an emergency aboard the vessel.

Concurrent with the publication of the notice of proposed rulemaking, a test deviation [USCG-2009-0686] was issued to allow the Iberville Parish School Board to test the proposed schedule and to obtain data and public comments. The test deviation allowed the bridges to operate as follows: The draw of the LA 75 bridge, mile 38.4 (Alternate Route) at Bayou Sorrel and the draw of the LA 77 bridge, mile 47.0 (Alternate Route) at Grosse Tete, shall open on signal; except that, from about August 15 to about June 5 (the school year), the draw of the LA 75 bridge need not be opened from 6 a.m. to 8 a.m. and from 3 p.m. to 5 p.m. and the draw of the LA 77 bridge need not be opened from 6 a.m. to 8:30 a.m. and from 2:30 p.m. to 5 p.m., Monday through Friday except Federal holidays. The draws shall open on signal at any time for an emergency aboard the vessel. The test period was in effect from November 25, 2009 until December 28, 2009.

One comment was received on November 11, 2009, before the test deviation went into effect, from a mariner expressing concern about the curfew changes. He is concerned because he believes there is already a congestion problem on the waterway during the closure periods and the additional 30 minutes would make the congestion worse. We did not receive any comments during or after the test deviation.

The Coast Guard has reviewed bridge tender logs from before, during, and after the test deviation became effective. The logs do not indicate an appreciable difference in the number of openings with the additional 30 minute closure period. The Coast Guard also reviewed the school buses crossing the bridges during the test deviation. The report indicated that the only time extension needed for the school buses is the morning closure for LA 75 pontoon bridge at Bayou Sorrel. Based on the research and data that was reviewed and the comment that was received, the Coast Guard has determined that the permanent change to the operating regulation for the Bayou Sorrel, LA 75 pontoon bridge morning closure period is warranted. The LA 75 pontoon bridge at Bayou Sorrel afternoon bridge closure and the LA 77 swing bridge at Grosse Tete morning and afternoon closures will remain as they are presently regulated.

Discussion of Comments and Changes

The Coast Guard received one comment from a mariner on November 11, 2009. Although he recognizes the importance of getting children to school at the proper times, he is worried about the increase in the duration of time that the bridges would be closed because it would add to a current congestion issue during those periods of closure. The Coast Guard has analyzed the data and research on the impact of the time adjustment on vessel traffic and has concluded that there is not a significant impact. Furthermore, the Coast Guard has analyzed the data and research on the impact the time adjustment has made on school bus traffic and has concluded that the only bridge closure in need of the time adjustment is the morning closure at the LA 75 pontoon bridge at Bayou Sorrel. Therefore, this is the only closure that will be permanently changed in the regulatory text.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. The changes have a minimal impact on maritime traffic transiting the bridge. Mariners can plan their trips in accordance with the scheduled bridge openings. The changes to the regulatory text published in the NPRM will be less restrictive than what was published. The afternoon closure at the LA 75 pontoon bridge at Bayou Sorrel and both the morning and afternoon closures at the LA 77 swing bridge at Grosse Tete will remain unchanged to what is currently published in the operating regulations.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: The owners or operators of vessels that would be transiting the bridge during that 30 minute increment of time. Because the amount of time that would be added to the current bridge closure period is minimal, this rule will not affect a substantial number of small entities and therefore will not have a substantial economic impact.

Assistance for Small Entities

Under section 213(a) of the Small Business Regulatory Enforcement Fairness Act of 1996 (Pub. L. 104-121), in the NPRM (SNPRM) we offered to assist small entities in understanding the rule so that they could better evaluate its effects on them and participate in the rulemaking process.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guides the Coast Guard in complying with the National Environmental Policy Act of 1969 (NEPA) (42 U.S.C. 4321-4370f), and have concluded that this action is one of a category of actions which do not individually or cumulatively have a significant effect on the human environment. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.478 paragraph (a) is revised to read as follows:

§ 117.478 Lower Grand River.

(a) The draw of the LA 75 bridge, mile 38.4 (Alternate Route) at Bayou Sorrel, shall open on signal; except that from about August 15 to about June 5 (the school year), the draw need not be opened from 6 a.m. to 8 a.m. and from 3 p.m. to 4:30 p.m., Monday through Friday except holidays. The draw shall open on signal at any time for an emergency aboard a vessel.

* * * * *

Dated: March 15, 2010.
Mary E. Landry,
Rear Admiral, U.S. Coast Guard, Commander, Eighth Coast Guard District.

[FR Doc. 2010-7167 Filed 3-30-10; 8:45 am]

BILLING CODE 9110-04-P